DEPARTMENT OF COMMERCE

International Trade Administration

(A-580-816)

Corrosion-Resistant Carbon Steel Flat Products from Korea: Extension of Time Limits for the Preliminary Results of Antidumping Duty Administrative Review

AGENCY: Import Administration, International Trade Administration, Department of Commerce.

FOR FURTHER INFORMATION CONTACT: Preeti Tolani at (202) 482-0395, AD/CVD Operations, Office 3, Import Administration, International Trade Administration, U.S. Department of Commerce, 14th Street and Constitution Ave, NW, Washington, DC 20230.

SUPPLEMENTARY INFORMATION:

Background

On September 28, 2005, the U.S. Department of Commerce (“Department”) published a notice of initiation of the administrative review of the antidumping duty order on corrosion-resistant carbon steel flat products from Korea, covering the period August 1, 2004, to July 31, 2005. See Initiation of Antidumping and Countervailing Duty Administrative Reviews and Request for Revocation in Part, 70 FR 56631 (September 28, 2005). On April 18, 2006, the Department published a notice of extension for the preliminary results of this review, extending the time for issuing the preliminary results by 100 days to August 11, 2006. See Notice of Extension of Time Limits for the Preliminary Results of Antidumping Duty Administrative Review, 71 FR 19872 (April 18, 2006).

Extension of Time Limit of Preliminary Results

Section 751(a)(3)(A) of the Tariff Act of 1930, as amended (“the Act”), requires the Department to make a preliminary determination within 245 days after the last day of the anniversary month of an order or finding for which a review is requested. Section 751(a)(3)(A) of the Act further states that if it is not practicable to complete the review within the time period specified, the administering authority may extend the 245-day period to issue its preliminary results to a maximum of 365 days.

We determine that completion of the preliminary results of this review by August 11, 2006, is not practicable because the Department requires additional time to analyze supplemental questionnaire responses and comments recently filed by petitioners and respondents participating in this review. Therefore, in accordance with section 751(a)(3)(A) of the Act, we are extending the time period for issuing the preliminary results to the full 365-day period. Therefore, the preliminary results are now due no later than August 31, 2006. The final results continue to be due 120 days after publication of the preliminary results.

This notice is published in accordance with sections 751(a)(3) and 777(i)(1) of the Act.

Dated: August 10, 2006.
Stephen J. Claeys,
Deputy Assistant Secretary for Import Administration.

[FR Doc. E6-13468 Filed 8-15-06; 8:45 am]

BILLING CODE 3510-DS-S